DEPARTMENT OF HOMELAND SECURITY

Transportation Security Administration

New Agency Information Collection Activity Under OMB Review: Minimum Standards for Driver's Licenses and Identification Cards Acceptable by Federal Agencies for Official Purposes

AGENCY: Transportation Security Administration, DHS.

ACTION: 30-Day notice.

SUMMARY: This notice announces that the Transportation Security Administration (TSA) has forwarded the new Information Collection Request (ICR) abstracted below to the Office of Management and Budget (OMB) for review and approval under the Paperwork Reduction Act (PRA). The ICR describes the nature of the information collection and its expected burden. The collection involves the requirement that States who seek a temporary waiver of the prohibition on Federal acceptance, for official purposes, of mobile driver's licenses (mDLs) that do not comply with the REAL ID Act and regulations, must submit an application for such waiver to TSA.

DATES: Send your comments by October 23, 2024. A comment to OMB is most effective if OMB receives it within 30 days of publication.

ADDRESSES: Written comments and recommendations for the proposed information collection should be sent within 30 days of publication of this notice to www.reginfo.gov/public/do/PRAMain. Find this particular information collection by selecting “Currently under Review—Open for Public Comments” and by using the find function.

FOR FURTHER INFORMATION CONTACT: Christina A. Walsh, TSA PRA Officer, Information Technology, TSA-11, Transportation Security Administration, 6595 Springfield Center Drive, Springfield, VA 20598-6011; telephone (571) 227-2062; email TSAPRA@tsa.dhs.gov.

SUPPLEMENTARY INFORMATION: TSA published a Notice of Proposed Rulemaking (NPRM), Minimum Standards for Driver's Licenses and Identification Cards Acceptable by Federal Agencies for Official Purposes; Waiver for Mobile Driver's Licenses, soliciting public comments of the following collection of information on August 30, 2023, at 88 FR 60056. TSA received 31 public comments on the NPRM and on this collection. TSA fully considered all comments, including those submitted late.

Comments Invited

In accordance with the Paperwork Reduction Act of 1995 (44 U.S.C. 3501 et seq.), an agency may not conduct or sponsor, and a person is not required to respond to, a collection of information unless it displays a valid OMB control number. The ICR documentation will be available at https://www.reginfo.gov upon its submission to OMB. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: Minimum Standards for Driver's Licenses and Identification Cards Acceptable by Federal Agencies for Official Purposes.

Type of Request: New collection.

OMB Control Number: 1652-XXXX.

Form(s): N/A.

Affected Public: States.

Abstract: Beginning May 7, 2025, the REAL ID regulations prohibit Federal agencies from accepting, for official purposes, driver's licenses or identification cards that are not compliant with REAL ID requirements.¹ In December 2020, the REAL ID Modernization Act clarified that mobile or digital driver's licenses or identification cards (collectively “mobile driver's licenses” or “mDLs”), are subject to REAL ID requirements.² This Act also amended the definitions of “driver's license” and “identification card” to specifically include mDLs that have been issued in accordance with regulations prescribed by the Secretary.

¹ 6 CFR 37.65(a).

² Sec. 1001 of the REAL ID Modernization Act, Title X of Division U of the Consolidated Appropriations Act, 2021, Public Law 116-260, 134 Stat. 2304.

The REAL ID Act was enacted, and DHS regulations issued, before the development of mDLs. As a result, many of the current regulation's security requirements for physical cards, such as physical security features to deter fraud and tampering, do not apply to mDLs. In the absence of regulatory requirements to address mDLs, States are unable to issue REAL ID-compliant mDLs. TSA has initiated a two-phased rulemaking to address this gap. The first phase enables States to apply to TSA for a temporary waiver of certain requirements in the regulations. In the second phase, TSA would repeal the waiver provisions established in the first phase and establish comprehensive requirements enabling States to issue mDLs that comply with REAL ID requirements.

In August 2023, TSA published a notice of proposed rulemaking (NPRM) ³ to amend the DHS REAL ID regulations as part of the multi-phased approach to address mDLs. The NPRM proposed to waive, on a temporary and State-by-State basis, the regulatory requirement that mDLs must be compliant with REAL ID requirements to be accepted by Federal agencies for official purposes. The NPRM proposed the process and standards for the waiver to permit Federal agencies, at their discretion, to continue accepting for official purposes mDLs after May 7, 2025, if the mDL is issued by a State to whom TSA has issued a waiver.

³ 88 FR 60056 (Aug. 30, 2023).

As the NPRM called for a collection of information under the PRA, TSA invited interested persons to submit written comments, including relevant data about the cost and hour burden of requirements in the NPRM. TSA is publishing this 30-day notice to provide the public additional opportunity to provide written comments directly to OMB.

Through the NPRM, TSA proposed requiring States that seek a waiver to submit an application and supporting materials to TSA using the procedures in 6 CFR 37.9(a) and 37.10(a)-(b). This collection of the information will enable TSA to issue a waiver to States, and TSA will use all of the submitted documentation to evaluate a State's request for a waiver, if and when the NPRM is made final. States would be required to submit information to TSA as part of their applications for a certificate of waiver for mDLs, as well as to comply with reporting requirements, and in response to TSA notices of suspension and termination. The NPRM also proposed continuing obligations on a State that has been issued a waiver that may require it to submit additional materials to TSA.

Specifically, the NPRM, if finalized, would require the following information collections from States:

(i) Submission of Initial Application and Audit Report

(ii) Supplemental Submissions

(iii) Request for Reconsideration of Denied Application

(iv) Re-Application

(v) Reporting of Significant Modifications to mDL Issuance Processes

(vi) Reporting of Discovery of Significant Cyber Incident or Breach

(vii) Responses to TSA Notices of Suspension and Termination

Estimated Number of Respondents: 19.

Estimated Annual Burden Hours: An estimated 245 hours annually.

Dated: September 18, 2024.
Christina A. Walsh,
TSA Paperwork Reduction Act Officer, Information Technology.

[FR Doc. 2024-21653 Filed 9-20-24; 8:45 am]

BILLING CODE 9110-05-P